DEPARTMENT OF HEALTH AND HUMAN SERVICES

Administration for Children and Families

Proposed Information Collection Activity; Evaluation of the Child Welfare Capacity Building Collaborative (New Collection)

AGENCY: Children's Bureau, Administration for Children and Families; HHS.

ACTION: Request for public comment.

SUMMARY: The Children's Bureau, Administration for Children and Families (ACF), U.S. Department of Health and Human Services (HHS), is proposing to collect data for an evaluation of the services provided to child welfare jurisdictions and Court Improvement Programs (CIP) by the Child Welfare Capacity Building Collaborative. This study uses instruments that build on previously approved OMB instruments, including satisfaction surveys, assessment tools, interview protocols, and service-specific feedback forms (OMB #0970-0484, expiration 11/30/22; OMB #0970-0494, expiration 2/28/23).

DATES: Comments due within 30 days of publication. OMB is required to make a decision concerning the collection of information between 30 and 60 days after publication of this document in the Federal Register. Therefore, a comment is best assured of having its full effect if OMB receives it within 30 days of publication.

ADDRESSES: Written comments and recommendations for the proposed information collection should be sent within 30 days of publication of this notice to www.reginfo.gov/public/do/PRAMain. Find this particular information collection by selecting “Currently under 30-day Review—Open for Public Comments” or by using the search function.

SUPPLEMENTARY INFORMATION:

Description: The Capacity Building Collaborative includes three centers (Center for States, Center for Tribes, Center for Courts) funded by the Children's Bureau to provide national child welfare expertise and evidence-informed training and technical assistance services to state, tribal, and U.S. territorial public child welfare agencies and CIP. The Centers offer services including Web-based content and resources, product development and dissemination, self-directed and group-based training, virtual learning and peer networking events, and tailored consultation, coaching, and facilitation (“tailored services”). Centers' services will be evaluated by Center-specific evaluations and a cross-Center evaluation. The cross-Center evaluation will examine collaboration across and within Centers; how well Centers have established themselves nationally, and how the child welfare field perceives their expertise, credibility, and value; what services are delivered by the Centers, and how well they are defined; service recipient satisfaction with service quality; child welfare jurisdiction and federal staff's experiences of assessment and work planning services offered by Centers; effectiveness of Center services; how Centers apply a common “change management approach” in their work; what affects child welfare jurisdiction engagement with and use of Center services; and the costs of Center services. The Center for States' evaluation consists of data collection around two research questions and five sub-studies. The research questions focus on understanding usefulness, relevance, and satisfaction from a stakeholder perspective, as well as outcomes of all services, with a focus on tailored services. The sub-studies assess organizational capacities, child welfare policy and practice, and outcomes for children and families. The Center for Tribes' evaluation will examine the extent to which the Center provides effective, culturally responsive services that meet the needs of tribal child welfare programs; the satisfaction of service recipients with service quality; and service outcomes for tribal child welfare programs and stakeholders. The Center for Courts' evaluation will assess satisfaction with and effectiveness of service delivery; progress toward meeting Center goals and the needs of CIP to promote continuous quality improvement (CQI); and increased knowledge, collaboration, and capacity to improve court performance and child and family outcomes.

Proposed cross-Center evaluation data sources for this effort include (1) a survey to assess child welfare staff perceptions of the outcomes of intensive ¹ courses of tailored services and their satisfaction with those services, completed by a project team lead with input from the rest of the team; (2) a survey to assess child welfare staff perceptions of the outcomes of brief courses of tailored services, for use with tribes and CIP;² (3,4,5) a leadership interview protocol, administered to all state/territory child welfare directors, and to tribal child welfare directors and CIP coordinators receiving services from the Centers; (6) a collaboration and communication survey administered twice to Center staff/contractors and their federal partners to understand whether factors that support collaboration are in place and improving over time; (7) a survey to assess whether collaborative teams for specific projects and/or communication teams exhibit signs of healthy collaboration; and (8) a survey to assess child welfare jurisdiction staff satisfaction with the assessment and work planning services provided by Centers.

¹ Intensive services typically last 9 or more months and involve 20 or more hours of service.

² The Center for States will administer its own, similar survey for use with state respondents.

Center for States' data sources include (1) a registration form for participation in virtual events; (2,3) a survey to gather feedback from participants in brief service events of 100+ registrants, and a follow-up survey to measure outcomes 3 months later; (4) a short poll for use by participants in brief service events with fewer than 100 registrants; (5) a peer learning group survey to gather feedback to inform program planning; (6) a survey to measure satisfaction with learning experiences; (7) a protocol for interviewing staff in jurisdictions receiving intensive services; (8) a protocol for use with state project leads to capture feedback following meetings associated with intensive projects, for use in a fidelity study; (9) a tailored services brief project survey to inform outcome reporting and CQI; (10) a survey of participants in peer-to-peer events to inform project planning; and (11) a jurisdiction interview protocol for a longitudinal ethnographic sub-study of several intensive projects. Center for Tribes' data sources include (1) a form for tribes requesting Center services; (2) an inquiry form for Center staff to collect information on services the tribe requests; (3) a demographic survey to provide information about the tribal child welfare program; (4) a “needs and fit exploration tool—phase 1” to gather information to decide if the tribe's request meets criteria for services; (5) a “needs and fit exploration tool—phase 2” for use when meeting with tribes whose service request has been approved; (6,7) a Tribal Child Welfare Leadership Academy Self-Assessment (pre- and post-training versions); and (8) a feedback survey to measure satisfaction with Center webinars. Center for Courts' data sources include (1) a survey to assess the usefulness of CQI workshops and perceived knowledge gained from participating in them; (2) a survey to assess participant satisfaction with Judicial and Attorney Academies and perceived knowledge gained; and (3) a pre-post survey to assess knowledge gained from the Academies and to provide exposure to material tailored to the participant's knowledge.

Respondents: Respondents to the data collection instruments will include (1) child welfare and judicial professionals that use the Centers' web pages, products, and online courses; participate in virtual or in-person trainings or peer events; and/or receive brief or intensive tailored services from the Centers; (2) state child welfare directors, tribal child welfare directors, and CIP coordinators receiving services from the Centers; (3) directors, staff, and consultants of the three Capacity Building Centers; and (4) federal staff.

Annual Burden Estimates

The proposed data collection will span 3 years.

Instrument | Total number of respondents | Total number of responses per respondent | Average burden hours per response | Total burden hours | Annual burden hours
Cross-Center: Outcomes of and Satisfaction with Tailored Services Survey (Intensive projects)—team lead's completion of survey | 120 | 1 | 0.25 | 30 | 10
Cross-Center: Outcomes of and Satisfaction with Tailored Services Survey (Intensive projects)—input from other members of the team | 576 | 1 | 0.17 | 98 | 33
Cross-Center: Outcomes of Tailored Services Survey (Brief projects) | 150 | 1 | 0.05 | 8 | 3
Cross-Center: Leadership Interview—States and Territories | 43 | 2 | 1 | 86 | 29
Cross-Center: Leadership Interview—CIPs | 37 | 2 | 1 | 74 | 25
Cross-Center: Leadership Interview—Tribes | 14 | 2 | 1.25 | 35 | 12
Cross-Center: Collaboration and Communication Survey—Center staff | 200 | 1 | 0.22 | 44 | 15
Cross-Center: Collaboration Project Team Survey | 120 | 1 | 0.23 | 28 | 9
Cross-Center: Assessment and Work Planning Survey—Jurisdiction Staff | 130 | 1 | 0.15 | 20 | 7
Center for States: Event Registration | 13,500 | 1 | 0.03 | 405 | 135
Center for States: Brief Event Survey | 1,500 | 1 | 0.1 | 150 | 50
Center for States: Event Follow-up Survey | 1,500 | 1 | 0.08 | 120 | 40
Center for States: Event Poll | 300 | 1 | 0.03 | 9 | 3
Center for States: Peer Learning Group Survey | 300 | 1 | 0.33 | 99 | 33
Center for States: Learning Experience Satisfaction Survey | 975 | 1 | 0.33 | 322 | 107
Center for States: Jurisdiction Interview Protocol | 90 | 1 | 1 | 90 | 30
Center for States: Fidelity Study: State Lead Debrief Questions | 108 | 1 | 0.25 | 27 | 9
Center for States: Tailored Services Brief Project Survey | 150 | 1 | 0.13 | 20 | 7
Center for States: Peer to Peer Event Survey | 60 | 1 | 0.08 | 5 | 2
Center for States: Longitudinal Ethnographic Sub-study Jurisdiction Interview | 45 | 2 | 1 | 90 | 30
Center for Tribes: Request for Services Form | 100 | 1 | 1 | 100 | 33
Center for Tribes: Inquiry Form | 200 | 1 | 0.08 | 16 | 5
Center for Tribes: ICW Demographic Survey | 60 | 1 | 1.75 | 105 | 35
Center for Tribes: Needs and Fit Exploration Tool Phase 1 | 150 | 1 | 2 | 300 | 100
Center for Tribes: Needs and Fit Exploration Tool Phase 2 (Process Narrative) | 80 | 1 | 3 | 240 | 80
Center for Tribes: Tribal Child Welfare Leadership Academy Pre-Training Self-Assessment | 240 | 1 | 0.5 | 120 | 40
Center for Tribes: Tribal Child Welfare Leadership Academy Post-Training Self-Assessment | 240 | 1 | 0.5 | 120 | 40
Center for Tribes: Universal Services Webinar Feedback Survey | 400 | 1 | 0.08 | 32 | 11
Center for Courts: CQI Workshop Feedback Survey | 240 | 1 | 0.07 | 17 | 6
Center for Courts: Academy Feedback Survey | 600 | 1 | 0.07 | 42 | 14
Center for Courts: Pre/Post Academy Assessment | 600 | 2 | 0.22 | 264 | 88

Estimated Total Annual Burden Hours: 1,041.

Authority: Sec. 5106, Public Law 111-320, the Child Abuse Prevention and Treatment Act Reauthorization Act of 2010, and titles IV-B and IV-E of the Social Security Act.

Mary B. Jones,
ACF/OPRE Certifying Officer.

[FR Doc. 2021-11118 Filed 5-25-21; 8:45 am]

BILLING CODE 4184-44-P